DEPARTMENT OF TRANSPORTATION

Research and Special Programs Administration

Notification of the Susceptibility to Premature Brittle-Like Cracking of Older Plastic Pipe

AGENCY: Research and Special Programs Administration (RSPA), DOT.

ACTION: Notice; correction.

SUMMARY: In the Federal Register of November 26, 2002, (67 FR 70806) the Research and Special Programs Administration (RSPA) published a notice document issuing an advisory bulletin on the susceptibility to premature brittle-like cracking of older plastic pipe (ADB-02-7). RSPA is submitting this correction notice to reflect minor wording changes and include a website address.

EFFECTIVE DATE: This correction takes effect November 26, 2002.

FOR FURTHER INFORMATION CONTACT: Gopala K. Vinjamuri, (202) 366-4503, or by email at gopala.vinjamuri@rspa.dot.gov.

SUPPLEMENTARY INFORMATION:

Correction

The last sentence in the first paragraph of the Supplementary Information heading under I. Background, reads:

Copies of this report may be obtained by calling NTSB's Public Inquiry Office at 202-314-6551.

We are revising this sentence to add NTSB's website address. The sentence is revised to read as follows:

Copies of this report may be obtained by calling NTSB's Public Inquiry Office at 202-314-6551, or on the NTSB website at www.ntsb.gov.

In the fourth paragraph under SUPPLEMENTARY INFORMATION, the first sentence reads:

The NTSB report suggests that ........ . Remove the word “suggests” and replace with the word “states”.

In the fourth paragraph under Supplementary Information, the third sentence reads:

NTSB alleges that ....... . Remove the word “alleges” and replace with the word “concluded”.

Under II. Advisory Bulletin (ADB-02-7) of the SUPPLEMENTARY INFORMATION heading, in the second paragraph under Advisory. The fourth sentence reads:

These older polyethylene pipe materials include the following:

The sentence is revised to read as follows:

These older polyethylene pipe materials include, but are not limited to:

Issued in Washington, DC on November 27, 2002.
James K. O'Steen,
Deputy Associate Administrator for Pipeline Safety.

[FR Doc. 02-30615 Filed 12-2-02; 8:45 am]

BILLING CODE 4910-60-P